DEPARTMENT OF ENERGY

Federal Energy Regulatory Commission

[Docket No. AD20-14-000]

Carbon Pricing in Organized Wholesale Electricity Markets; Supplemental Notice of Technical Conference

As announced in the Notice ¹ of Technical Conference issued in this proceeding on June 17, 2020, the Federal Energy Regulatory Commission (Commission) will convene a Commissioner-led technical conference in the above-referenced proceeding on Wednesday, September 30, 2020, from approximately 9:00 a.m. to 6:00 p.m. Eastern time. The conference will be held electronically.

¹ 18 CFR 2.1 (2020).

The purpose of this conference is to discuss considerations related to state-adoption of mechanisms to price carbon dioxide emissions, commonly referred to as carbon pricing, in regions with Commission-jurisdictional organized wholesale electricity markets (i.e., regions with regional transmission organizations/independent system operators, or RTOs/ISOs). This conference will focus on carbon pricing approaches where a state (or group of states) sets an explicit carbon price, whether through a price-based or quantity-based approach, and how that carbon price intersects with RTO/ISO-administered markets, addressing both legal and technical issues.

A revised agenda and list of panelists for this conference are attached. All changes to the agenda since the Commission's August 28, 2020 Supplemental Notice of Technical Conference appear in italics.

There is no fee for attendance, and the conference will be webcast for the public to attend electronically. Information on this technical conference, including a link to the webcast, will also be posted on this conference's event page on the Commission's website, www.ferc.gov/news-events/events/technical-conference-regarding-carbon-pricing-organized-wholesale-electricity, prior to the event. The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact:

John Miller (Technical Information), Office of Energy Market Regulation, (202) 502-6016, john.miller@ferc.gov

Anne Marie Hirschberger (Legal Information), Office of the General Counsel, (202) 502-8387, annemarie.hirschberger@ferc.gov

Sarah McKinley (Logistical Information), Office of External Affairs, (202) 502-8004, sarah.mckinley@ferc.gov

Dated: September 16, 2020.
Kimberly D. Bose,
Secretary.

[FR Doc. 2020-20985 Filed 9-22-20; 8:45 am]

BILLING CODE 6717-01-P